Proclamation 10089 of September 30, 2020

National Energy Awareness Month, 2020

By the President of the United States of America

A Proclamation

From coast to coast, our country is blessed with an abundance of natural resources that help power our homes, light our cities, and provide us transport to school and work. However, for too long, we failed to reap their full benefits, nor did we properly steward these God-given gifts. My Administration reversed that trend, and today, I am proud to proclaim that the United States is finally energy independent. During National Energy Awareness Month, we recognize the newly restored, preeminent importance of our Nation's energy industry to the comfort of our daily lives and to our national security.

Since the beginning of my Administration, I have taken action to reduce the regulatory burden on the American energy sector. The last administration had stifled this industry with one costly job-killing regulation after another. For decades, special interest groups, bureaucrats, and radical environmental activists stymied the maintenance, repair, growth, and expansion of our Nation's energy infrastructure, preventing us from achieving energy independence. My Administration has ended all that and is promoting stronger production of crude oil and other liquids and empowering the private sector to explore and drill for oil and gas. We are also eliminating regulatory obstacles to building the major energy infrastructure needed to transport our Nation's energy from the source of production to end users and exporters. We have issued timely approvals for the Keystone XL, Dakota Access and Mountain Valley Pipelines, and addressed the obstacles to exporting coal through West Coast ports. As a result of these policies, our country is a net energy exporter for the first time since 1952 and is now the number one producer of oil and natural gas in the world.

Under my Administration, we are no longer beholden to foreign powers or domestic radicals. We are powering our Nation on our own terms.

My Administration's commitment to promoting robust energy development has proven that energy production can go hand in hand with responsible stewardship of our natural environment. America's energy independence is critical to environmental stewardship. While boosting energy production, the United States still continues to be a world leader in clean air, including in the reduction of energy-related CO2 emissions. Emissions of common air pollutants have dropped by 77 percent over the last 50 years, including a 7 percent reduction under my Administration.

By empowering our domestic energy industry and its workers, my Administration has made American innovation—rather than foreign influence—the cornerstone of our clean energy policy. Due to these efforts, we remain the world's top producer of nuclear power and recently became the second largest generator of solar power. Allowing American companies to chart their own paths to dependable renewable energy sources, rather than forcing them to adhere to top-down government programs, has enabled us to lead the world in emissions reductions.

To continue our progress, I proudly signed the Great American Outdoors Act, which will direct royalties from energy production on Federal lands and waters toward conserving and repairing our national parks, forests, refuges, public lands, and tribal schools. As a result, the energy industry will play a crucial role in our sustainability and conservation efforts going forward.

This month, we recommit to supporting our Nation's workers who produce, transport, and refine our energy. We recognize the vital role they play in creating opportunities, developing technologies, and advancing our country toward an even more prosperous future. My Administration will always support these hardworking men and women, and together, we will sustain our energy dominance and independence for years to come.

NOW, THEREFORE, I, DONALD J. TRUMP, President of the United States of America, by virtue of the authority vested in me by the Constitution and the laws of the United States, do hereby proclaim October 2020 as National Energy Awareness Month.

IN WITNESS WHEREOF, I have hereunto set my hand this thirtieth day of September, in the year of our Lord two thousand twenty, and of the Independence of the United States of America the two hundred and forty-fifth.

[FR Doc. 2020-22195

Filed 10-5-20; 8:45 am]

Billing code 3295-F1-P